DEPARTMENT OF TRANSPORTATION

Federal Aviation Administration

14 CFR Part 71

[Docket No. FAA-2014-1072; Airspace Docket No. 14-ASW-9]

Amendment of Class E Airspace; Baton Rouge, LA

AGENCY: Federal Aviation Administration (FAA), DOT.

ACTION: Final rule, technical amendment.

SUMMARY: This action amends the legal description of the Baton Rouge, LA, VHF Omnidirectional Range/Tactical Air Navigation aid (VORTAC) located in Class E airspace at Baton Rouge, LA. The Baton Rouge VORTAC and Baton Rouge Metropolitan Airport, Ryan Field, have similar names and both share the same facility identifier but are not co-located. The FAA is renaming the Baton Rouge VORTAC as well as assigning a new facility identifier for the safety and management of aircraft operations within the Baton Rouge, LA, airspace area. This does not affect the boundaries or operating requirements of the airspace.

DATES: Effective 0901 UTC, April 30, 2015. The Director of the Federal Register approves this incorporation by reference action under title 1, Code of Federal Regulations, part 51, subject to the annual revision of FAA Order 7400.9 and publication of conforming amendments.

ADDRESSES: FAA Order 7400.9Y, Airspace Designations and Reporting Points and subsequent amendments can be viewed online at http://www.faa.gov/airtraffic/publications/. The order is also available for inspection at the National Archives and Records Administration (NARA). For information on the availability of this material at NARA, call 202-741-6030, or go to http://www.archives.gov/federal_register/code_of_federal_regulations/ibr_locations.html.

FAA Order 7400.9, Airspace Designations and Reporting Points, is published yearly and effective on September 15. For further information, you can contact the Airspace Policy and ATC Regulations Group, Federal Aviation Administration, 800 Independence Avenue SW., Washington DC, 29591; telephone: 202-267-8783.

FOR FURTHER INFORMATION CONTACT: Rebecca Shelby, Operations Support Group, Central Service Center, Federal Aviation Administration, Southwest Region, 2601 Meacham Blvd., Fort Worth, TX 76137; telephone 817-321-7740.

SUPPLEMENTARY INFORMATION:

History

The Baton Rouge Airport Air Traffic Control Tower has submitted a request to change the name and facility identifier of the Baton Rouge, LA, VORTAC (BTR), to Fighting Tiger VORTAC (LSU). The request is prompted by the distance of the VORTAC, which is located 8 miles outside the boundary of Baton Rouge Metropolitan Airport, Ryan Field. FAA Order 7350.9A, Location Identifiers, states in part that the navigation aid must be within the airport boundary in order to share the same identifier.

Class E airspace designations are published in paragraph 6005 of FAA Order 7400.9Y dated August 6, 2014, and effective September 15, 2014, which is incorporated by reference in 14 CFR part 71.1. The Class E airspace designations listed in this document will be published subsequently in the Order.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This amendment to Title 14, Code of Federal Regulations (14 CFR) part 71 amends Class E airspace designated as an extension to a Class C surface area at Baton Rouge Metropolitan Airport, Ryan Field, Baton Rouge, LA. The name of the Baton Rouge VORTAC navigation aid is changed to the Fighting Tiger VORTAC, and the facility identifier is changed from (BTR) to (LSU). This rule is meant to ensure pilots do not confuse instructions provided to them by Air Traffic Control.

This is an administrative change and does not affect the boundaries, altitudes, or operating requirements of the airspace, therefore, notice and public procedure under 5 U.S.C. 553(b) is unnecessary.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it changes the identifier and name of the Baton Rouge VORTAC, at Baton Rouge Metropolitan Airport, Baton Rouge, LA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, effective September 15, 2014, is amended as follows:

Paragraph 6003 Class E Airspace areas listed below consist of airspace extending upward from the surface designated as an extension to a Class C surface area.

* * * * *

ASW LA E3 Baton Rouge, LA [Amended]

Fighting Tiger VORTAC

(Lat. 30°29′06″ N., long. 91°17′39″ W.)

That airspace extending upward from the surface within 1 mile each side of the 071° radial of the Fighting Tiger VORTAC extending from a 5-mile radius of the Metropolitan, Ryan Field to 5.8 miles southwest of the airport.

Issued in Fort Worth, TX, on March 25, 2015.
Robert W. Beck,
Manager, Operations Support Group, ATO Central Service Center.

[FR Doc. 2015-09402 Filed 4-23-15; 8:45 am]

BILLING CODE 4910-13-P